ENVIRONMENTAL PROTECTION AGENCY

40 CFR Parts 52 and 81

[EPA-R09-OAR-2007-0101; FRL-8308-4]

Approval and Promulgation of Implementation Plans and Designation of Areas for Air Quality Planning Purposes: California

AGENCY: Environmental Protection Agency (EPA).

ACTION: Final rule.

SUMMARY: EPA is granting a request submitted by the State to redesignate the South Coast from nonattainment to attainment for the CO National Ambient Air Quality Standards (NAAQS). EPA is also approving a state implementation plan (SIP) revision for the South Coast nonattainment area in California as meeting the Clean Air Act (CAA) requirements for maintenance plans for carbon monoxide (CO). EPA is finding adequate and approving motor vehicle emission budgets, which are included in the maintenance plan. Finally, EPA is approving the California motor vehicle inspection and maintenance (I/M) program as meeting the low enhanced I/M requirements for CO in the South Coast.

DATES: Effective Date: This rule is effective on June 11, 2007.

ADDRESSES: Copies of the documents relevant to this action are available for public inspection during normal business hours at EPA Region 9's Air Planning Office (AIR-2), 75 Hawthorne Street, San Francisco, CA 94105-3901. Due to increased security, we suggest that you call at least 24 hours prior to visiting the Regional Office so that we can make arrangements to have someone meet you.

Electronic Availability

This document and our proposed rule, which was published on February 14, 2007, are also available at www.regulations.gov for docket number EPA-R09-OAR-2007-0101.

FOR FURTHER INFORMATION CONTACT: David Jesson, U.S. EPA Region 9, 415-972-3961, david.jesson@epa.gov.

SUPPLEMENTARY INFORMATION: Throughout this document, the terms “we,” “us,” and “our” mean U.S. EPA.

Table of Contents

I. Proposed Action

II. Public Comments

III. Final Action

IV. Statutory and Executive Order Reviews

I. Proposed Action

On February 14, 2007 (72 FR 6986), we proposed to approve the 2005 Carbon Monoxide Redesignation Request and Carbon Monoxide Maintenance Plan for the South Coast Air Basin (Maintenance Plan) as meeting the requirements of CAA sections 107(d)(3)(E) and 175A. We also proposed to approve and find adequate the motor vehicle emissions budgets (MVEBs) submitted with the Maintenance Plan.

We proposed to approve the request by the State of California to redesignate the area to attainment for CO under the provisions of CAA section 107(d)(3)(E). Section 107(d)(3)(E) authorizes the EPA Administrator to redesignate areas to attainment if the area has attained the NAAQS due to permanent and enforceable emission reductions, and the approved SIP for the area meets all of the applicable requirements of CAA section 110 (basic requirements applicable to SIPs generally), Part D (special SIP requirements applicable to nonattainment areas), and 175A (SIP requirements for maintenance areas).

As part of our proposed determination that California has met applicable Part D provisions, we proposed to adapt to CO nonattainment areas the provisions of our Clean Data Policy, which was initially established for ozone (see discussion at 72 FR 6989). Under the Clean Data Policy, certain CAA Part D requirements—including the requirements for developing attainment demonstrations, reasonable further progress (RFP) plans, reasonably available control measures (RACM) and contingency measures—no longer apply because the area has already attained the NAAQS.

Finally, because our interim approval of California's I/M program for CO in the South Coast expired on August 7, 1998, California submitted a demonstration that the I/M program meets the low-enhanced requirements applicable to the South Coast CO nonattainment area (see discussion in section III.B.4. We proposed to approve that demonstration.

II. Public Comments

Our February 14, 2007 proposed rule provided a 30-day public comment period, which closed on March 16, 2007. We received no comments on our proposal during this period.

III. Final Action

We are taking final action to redesignate the South Coast from nonattainment to attainment for the CO National Ambient Air Quality Standards (NAAQS) under CAA section 107(d)(3)(E).

We are approving the following SIP revision as meeting the Clean Air Act (CAA) requirements for maintenance plans for carbon monoxide (CO) under CAA section 175A: 2005 Carbon Monoxide Redesignation Request and Carbon Monoxide Maintenance Plan for the South Coast Air Basin, adopted by the SCAQMD on March 4, 2005, and adopted and submitted by the CARB on February 24, 2006.¹

¹ A letter from CARB dated August 11, 2006, contained information related to the enhanced I/M program, but we are not incorporating this letter in the approved SIP.

We are approving Appendix V, page V-5-4, Table 5-2—“Carbon Monoxide Emissions (tons/day) Projected from 1993 through 2000 for the South Coast Air Basin,” in the 1997 CO Plan for the South Coast, adopted by SCAQMD on November 15, 1996, and adopted and submitted by CARB on February 5, 1997, as meeting the requirements of CAA section 187(b)(2) relating to transportation control measures to offset emissions associated with growth in vehicle miles traveled and vehicle trips.

We are finding adequate and approving under CAA section 176(c) the following motor vehicle emission budgets included in the maintenance plan: 2888 tons per day of CO for 2005, and 2137 tons per day of CO for 2010, 2015, and 2020.

We are approving the State's demonstration that the California motor vehicle inspection and maintenance (I/M) program meets the low enhanced I/M requirements for CO in the South Coast under CAA section 187(a)(6). The State's I/M program submittal of January 22, 1996, remains an approved part of the SIP, following its approval on January 8, 1997 (62 FR 1150).

IV. Statutory and Executive Order Reviews

Under Executive Order 12866 (58 FR 51735, October 4, 1993), this action is not a “significant regulatory action” and therefore is not subject to review by the Office of Management and Budget. For this reason, this action is also not subject to Executive Order 13211, (Actions Concerning Regulations That Significantly Affect Energy Supply, Distribution, or Use” (66 FR 28355, May 22, 2001). This action merely approves changes to state law as meeting Federal requirements, and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 97249, November 9, 2000), nor will it have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the CAA. This rule also is not subject to Executive Order 13045 “Protection of Children from Environmental Health Risks and Safety Risks” (62 FR 19885, April 23, 1997), because it approves a state plan implementing a Federal Standard.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP, to use VCS in place of a SIP submission that otherwise satisfies the provisions of the Clean Air Act. Thus, the requirements of section 12(d) of the National Technology Transfer and Advancement Act of 1995 (15 U.S.C. 272 note) do not apply.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a major rule as defined by 5 U.S.C. 804(2).

Under section 307(b)(1) of the Clean Air Act, petitions for judicial review of this action must be filed in the United States Court of Appeals for the appropriate circuit by July 10, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Intergovernmental relations, Reporting and recordkeeping requirements.

40 CFR Part 81

Environmental protection, Air pollution control, National parks, Wilderness areas.

Dated: April 24, 2007.
Wayne Nastri,
Regional Administrator, Region 9.

40 CFR parts 52 and 81 are amended as follows:

PART 52—[AMENDED]

1. The authority citation for part 52 continues to read as follows:

Authority: 42 U.S.C. 7401 et seq.

Subpart F—California

2. Section 52.220 is amended by adding subparagraph (c)(247)(i)(A)(6) and adding paragraph (c)(346) to read as follows:

§ 52.220 Identification of plan.

* * * * *

(c) * * *

(247) * * *

(i) * * *

(A) * * *

(6) Appendix V, page V-5-4, Table 5-2—“Carbon Monoxide Emissions (tons/day) Projected from 1993 through 2000 for the South Coast Air Basin.”

* * * * *

(346) New and amended plans for the following AQMD were submitted on February 24, 2006, by the Governor's designee.

(i) Incorporation by reference.

(A) South Coast Air Quality Management District (SCAQMD).

(1) 2005 Carbon Monoxide Redesignation Request and Maintenance Plan for the South Coast Air Basin, as adopted by SCAQMD on March 4, 2005, and by California Air Resources Board on February 24, 2006.

PART 81—[AMENDED]

1. The authority citation for part 81 continues to read as follows:

Authority: 42 U.S.C. 7401 et seq.

Subpart C—[Amended]

2. In § 81.305, the table “California—Carbon Monoxide” is amended by revising the entry for “Los Angeles-South Coast Air Basin Area” to read as follows:

§ 81.305 California.

* * * * *

California—Carbon Monoxide
Designated area | Designation: Date ¹ | Designation: Type | Classification: Date | Classification: Type
* * * * * * *
Los Angeles-South Coast Air Basin Area | 6/11/07 | Attainment
Los Angeles County (part)—that portion of Los Angeles County which lies south and west of a line described as follows:
1. Beginning at the Los Angeles-San Bernardino County boundary and running west along the township line common to Township 3 North and Township 2 North, San Bernardino Base and Meridian;
2. Then north along the range line common to Range 8 West and Range 9 West;
3. Then west along the township line common to Township 4 North and Township 3 North;
4. Then north along the range line common to Range 12 West and Range 13 West to the southeast corner of Section 12, Township 5 North and Range 13 West;
5. Then west along the south boundaries of Sections 12, 11, 10, 9, 8, and 7, Township 5 North and Range 13 West to the boundary of the Angeles National Forest which is collinear with the range line common to Range 13 West and Range 14 West;
6. Then north and west along the Angeles National Forest boundary to the point of intersection with the township line common to Township 7 North and Township 6 North (point is at the northwest corner of Section 4 in Township 6 North and Range 14 West);
7. Tthen west along the township line common to Township 7 North and Township 6 North;
8. Then north along the range line common to Range 15 West and Range 16 West to the southeast corner of Section 13, Township 7 North and Range 16 West;
9. Then along the south boundaries of Sections 13, 14, 15, 16, 17, and 18, Township 7 North and Range 16 West;
10. Then north along the range line common to Range 16 West and Range 17 West to the north boundary of the Angeles National Forest (collinear with the township line common to Township 8 North and Township 7 North);
11. Then west along the Angeles National Forest boundary to the point of intersection with the south boundary of the Rancho La Liebre Land Grant;
12. Then west and north along this land grant boundary to the Los Angeles-Kern County boundary.
Orange County:
Riverside County (part)—that portion of Riverside County which lies to the west of a line described as follows:
1. Beginning at the Riverside—San Diego County boundary and running north along the range line common to Range 4 East and Range 3 East, San Bernardino Base and Meridian;
2. Then east along the township line common to Township 8 South and Township 7 South;
3. Then north along the range line common to Range 5 East and Range 4 East;
4. Then west along the township line common to Township 6 South and Township 7 South to the southwest corner of Section 34, Township 6 South, Range 4 East;
5. Then north along the west boundaries of Sections 34, 27, 22, 15, 10, and 3, Township 6 South, Range 4 East;
6. Then west along the township line common to Township 5 South and Township 6 South;
7. Then north along the range line common to Range 4 East and Range 3 East;
8. Then west along the south boundaries of Sections 13, 14, 15, 16, 17, and 18, Township 5 South, Range 3 East;
9. Then north along the range line common to Range 2 East and Range 3 East to the Riverside-San Bernardino county line.
San Bernardino County—that portion of San Bernardino County which lies south and west of a line described as follows:
1. Beginning at the San Bernardino-Riverside County boundary and running north along the range line common to Range 3 East and Range 2 East, San Bernardino Base and Meridian;
2. Then west along the township line common to Township 3 North and Township 2 North to the San Bernardino—Los Angeles County boundary.
* * * * * * *
¹ This date is November 15, 1990, unless otherwise noted.

[FR Doc. E7-8673 Filed 5-10-07; 8:45 am]

BILLING CODE 6560-50-P